NUCLEAR REGULATORY COMMISSION

10 CFR Part 52

[NRC-2025-0018]

RIN 3150-AL26

Revising the Duration of Design Certifications

AGENCY: Nuclear Regulatory Commission.

ACTION: Direct final rule; confirmation of effective date.

SUMMARY: The U.S. Nuclear Regulatory Commission (NRC) is confirming the effective date of September 15, 2025, for the direct final rule published in the Federal Register on July 2, 2025. This direct final rule amended the NRC's regulations to revise the duration of design certifications (DCs). This action replaced the 15-year duration for DCs with a 40-year duration period, both for existing DCs currently in effect and generically for future DCs. This direct final rule did not change the date of issuance for existing DCs (i.e., the start date by which an existing DC may be referenced remains unchanged). This direct final rule also incorporated a minor editorial correction.

DATES: The effective date of September 15, 2025, for the direct final rule published July 2, 2025 (90 FR 28869), is confirmed.

ADDRESSES: Please refer to Docket ID NRC-2025-0018 when contacting the NRC about the availability of information for this action. You may obtain publicly available information related to this action by any of the following methods:

• Federal Rulemaking website: Go to https://www.regulations.gov and search for Docket ID NRC-2025-0018. Address questions about NRC dockets to Helen Chang; telephone: 301-415-3228; email: Helen.Chang@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time it is mentioned in the SUPPLEMENTARY INFORMATION section.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Daniel Doyle, Office of Nuclear Material Safety and Safeguards, telephone: 301-415-3748, email: Daniel.Doyle@nrc.gov; or Jordan Glisan, Office of Nuclear Reactor Regulation, telephone: 301-415-3478, email: Jordan.Glisan@nrc.gov. Both are staff of the U.S. Nuclear Regulatory Commission, Washington, DC 20555-0001.

SUPPLEMENTARY INFORMATION:

I. Background

On July 2, 2025 (90 FR 28869), the NRC published a direct final rule amending its regulations in part 52 of title 10 of the Code of Federal Regulations to revise the duration of design certifications.

In the direct final rule, the NRC stated that if no significant adverse comments were received, the direct final rule would become effective on September 15, 2025. The NRC received and docketed four comment submissions on the companion proposed rule (90 FR 28911; July 2, 2025). Electronic copies of the comments can be obtained from the federal rulemaking website https://www.regulations.gov under Docket ID NRC-2025-0018 and are also available in ADAMS under Accession Nos. ML25209A465, ML25211A180, ML25211A187, and ML25217A008. As explained in the July 2, 2025, direct final rule, the NRC would withdraw the direct final rule only if it received a significant adverse comment. A significant adverse comment is a comment where the commenter explains why the rule would be inappropriate, challenges its underlying premise or approach, or shows why it would be ineffective or unacceptable without a change. A comment is adverse and significant if:

(1) The comment opposes the rule and provides a reason sufficient to require a substantive response in a notice-and-comment process. For example, a substantive response is required when:

(a) The comment causes the NRC staff to reevaluate (or reconsider) its position or conduct additional analysis;

(b) The comment raises an issue serious enough to warrant a substantive response to clarify or complete the record; or

(c) The comment raises a relevant issue that was not previously addressed or considered by the NRC staff.

(2) The comment proposes a change or an addition to the rule, and it is apparent that the rule would be ineffective or unacceptable without incorporation of the change or addition; or

(3) The comment causes the NRC staff to make a change (other than editorial) to the rule.

For the reasons discussed in more detail in Section II, “Public Comment Analysis,” of this document, none of the comments contained in the submissions are considered significant adverse comments.

II. Public Comment Analysis

The NRC evaluated the comments against the criteria described in the direct final rule and determined that none of the comments submitted on the proposed rule are significant adverse comments. The public comments received on this action did not warrant any additions or changes to the final rule. The NRC is not making substantive changes to the rule; it is apparent that the rule is effective and acceptable as proposed, without the need for a substantive change or addition. The comments did not raise a relevant issue that was not previously addressed or considered by the NRC, and the comments did not cause the NRC to either (1) reevaluate or reconsider its position, or (2) conduct additional analyses.

The comment submissions from ClearPath (ADAMS Accession No. ML25209A465) and The Breakthrough Institute (ADAMS Accession No. ML25211A180) did not oppose the rule. The comment submissions from Andrew Kalukin (ADAMS Accession No. ML25211A187) and the anonymous commenter (ADAMS Accession No. ML25217A008) opposed the rule, but they did not meet the criteria for significant adverse comments; however, the NRC is taking this opportunity to respond to these comments to clarify information about the direct final rule.

The following paragraphs summarize each individual comment from Andrew Kalukin and the anonymous commenter followed by the NRC response.

Comment 1: The commenter opposes extending the design certification period from 15 to 40 years, expressing concern that too many nuclear plants are obsolete in their safety technology, such as engineering to withstand ground motion. The commenter also expresses concern about the number of safety violations and near misses at nuclear plants.

NRC Response: The NRC disagrees with this comment. The comment does not provide sufficient information to identify obsolete safety technology. Nuclear power plants are designed and built to withstand earthquakes and other natural hazards, and the NRC continues to examine new seismic information as it becomes available. Safety violations at nuclear power plants are dispositioned through the NRC's inspection and enforcement programs in a manner intended to reflect the seriousness of the violation and the circumstances involved. The NRC made no changes to the rule as a result of this comment.

Comment 2: The commenter asserts that there is an insufficient basis for extending the duration of standard design certifications, arguing that this change would undermine the regulatory structure of Title 10 of the Code of Federal Regulations. The commenter states that extending the certification period by more than a factor of two would exceed the NRC's current experience with design certifications, and the agency has not adequately evaluated or discussed the potential implications of this extension. The commenter states that this change would delay compliance with safety requirements, such as those related to aircraft impact assessments, which were previously determined by the NRC to provide a substantial increase in public health and safety protections.

The commenter also asserts that the issue finality provisions applicable to DCs limit the NRC's ability to require updates and improvements to certified designs during the approval period, whereas shorter renewal periods offer more frequent opportunities for changes to be made during subsequent renewal periods. The commenter asserts that the direct final rule could reduce regulatory flexibility and create inefficiencies.

NRC Response: The NRC disagrees with this comment. The NRC considered all relevant implications of the amendments made by this direct final rule. The Federal Register notice for the direct final rule discusses how the amendments cause no reduction in safety or security. Section IV, “Discussion,” explains that the NRC has processes to address potential safety or security issues outside of the renewal process, including, among other ways, by making generic changes to DC rules or plant-specific changes by Commission order.

With respect to the commenter's concern regarding aircraft impact assessments, each DC rule affected by this direct final rule does comply with the NRC's aircraft impact assessment regulations. This includes the AP1000 design, which was amended to address the NRC's aircraft impact assessment rule in 2011 (76 FR 82079; December 30, 2011).

Regarding the commenter's concern about the issue finality provisions, the NRC can effectively update DC rules even though they do not need to be renewed as often. This is explained in the Federal Register notice for the direct final rule and in this document. The NRC has also successfully updated DC rules before, even with issue finality provisions in place, including changes to address the NRC's aircraft impact assessment regulations. The issue finality provisions will not prevent the NRC from taking action to address safety or security concerns. In fact, the criteria for requiring design changes during a DC renewal review (found in 10 CFR 52.59(b)(1)-(b)(3)) are encompassed by the issue finality criteria for amending a DC during the term of the DC (found in 10 CFR 52.63(a)(1)). Also, as reflected in 10 CFR 52.63(a)(1), any person may petition to amend a DC, and the Commission may amend a DC on its own motion. To the extent the commenter objects to the NRC's issue finality provisions, these provisions were designed to appropriately balance important factors, including regulatory stability, flexibility, and efficiency, and are outside the scope of this rulemaking.

The NRC made no changes to the rule as a result of this comment.

Comment 3: The commenter criticizes the NRC's use of the direct final rulemaking process, stating that it was inappropriate and lacked sufficient transparency.

NRC Response: The NRC disagrees with this comment. The NRC uses the direct final rule process for regulatory amendments that are unlikely to be controversial. The direct final rule process allows an agency to issue a rule without having to go through the review process twice (i.e., at the proposed and final rule stages) if there are no significant adverse comments, while at the same time offering the public the opportunity to comment on the proposed changes. The NRC made no changes to the rule as a result of this comment.

Comment 4: Addressing the NRC's rationale concerning regulatory burden, the commenter argues that the agency has not proven that the current certification duration imposes an unnecessary regulatory burden. The commenter maintains that the renewal process provides benefits that would be lost or diminished because it allows for regular updates to designs in response to new safety requirements.

NRC Response: The NRC disagrees with this comment. The Federal Register notice for the direct final rule discusses how the amendments reduce unnecessary regulatory burdens with no reduction in safety or security. Section IV, “Discussion,” explains that (1) the 15-year certification period did not allow for sufficient time for operating experience to accumulate to provide new insights in a renewal application, and thus, resulted in inefficient use of resources both on the part of the NRC and the applicant; and (2) that the NRC retains other means of ensuring that codified DCs and the plants referencing them continue to meet safety and security requirements (90 FR 28869, 28870-871; July 2, 2025). In addition, Section VII, “Regulatory Analysis,” describes how the rule is estimated to result in averted costs of approximately $56.7 million in 2024 dollars to the NRC, licensees, and applicants over the analysis period (90 FR 28869, 28871; July 2, 2025). The NRC made no changes to the rule as a result of this comment.

In summary, the NRC did not receive any significant adverse comments and therefore, this direct final rule will become effective as scheduled.

Dated: August 21, 2025.
For the Nuclear Regulatory Commission.
Araceli Billoch Colon,
Chief, Regulatory Analysis and Rulemaking Support Branch, Division of Rulemaking, Environmental, and Financial Support Office of Nuclear Material Safety and Safeguards.

[FR Doc. 2025-16286 Filed 8-25-25; 8:45 am]

BILLING CODE 7590-01-P